DEPARTMENT OF THE INTERIOR

Bureau of Land Management

[NM-030-1430-ES; NMNM-104131]

Notice of Realty Action; Recreation and Public Purposes (R&PP) Act Classification; New Mexico

AGENCY: Bureau of Land Management (BLM), Interior.

ACTION: Notice.

SUMMARY: The following public land in Dona County, New Mexico has been examined and found suitable for classification for lease or conveyance to New Mexico State University (NMSU) under the provisions of the Recreation and Public Purposes (R&PP) Act; as amended (43 U.S.C. 869 et seq.). NMSU proposes to use the land to construct the East Mesa Center of the Dona Ana Branch Community College. The land is described as follows:

New Mexico Principal Meridian

T. 22 S., R. 2 E., sec. 33, SE¼NE¼, E½SW¼NE¼.

Containing 60 acres more or less.

The land is not needed for Federal purposes. Lease or conveyance is consistent with current BLM land use planning and would be in the public interest.

City, County, and State government will receive a copy of this Notice of Realty Action/Classification as required by 43 CFR 2742.4(b).

DATES: Comments regarding the proposed lease/conveyance or classification must be submitted on or before October 9, 2001.

ADDRESSES: Comments should be sent to BLM, Las Cruces Field Office, 1800 Marquess, Las Cruces, New Mexico, 88005.

FOR FURTHER INFORMATION CONTACT: Juan Padilla at (505) 525-4376.

SUPPLEMENTARY INFORMATION: The lease/patent, when issued, will be subject to the following terms, conditions, and reservations:

1. Provisions of the R&PP Act and to all applicable regulations of the Secretary of the Interior.

2. A right-of-way for ditches and canals constructed by the authority of the United States.

3. All minerals shall be reserved to the United States, together with the right to prospect for, mine, and remove the minerals.

4. Those rights for a 345 kV transmission line granted to the El Paso Electric Company by Right-of-Way Grant No. NM 0554552.

5. Rights-of-way for streets, roads, and utilities in accordance with the City of Las Cruces Metropolitan Planning Organization (MPO) transportation plan.

Detailed information concerning this action is available for review at the BLM, Las Cruces Field Office, 1800 Marquess, Las Cruces, New Mexico. Upon publication of this notice in the Federal Register, the land will be segregated from all other forms of appropriation under the public land laws, including the general mining laws, except for lease or conveyance under the Recreation and Public Purposes Act and leasing under the mineral leasing laws. On or before October 9, 2001, interested persons may submit comments regarding the proposed lease/conveyance or classification of the land to the Field Office Manager, Las Cruces Field Office, 1800 Marquess, Las Cruces, New Mexico, 88005.

Classification Comments

Interested parties may submit comments involving the suitability of the land for a community college. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for a community college.

Any adverse comments will be reviewed by the State Director. In the absence of any adverse comments, the classification will become effective on October 23, 2001.

Dated: August 8, 2001.
Amy L. Lueders,
Field Manager, Las Cruces.

[FR Doc. 01-21475 Filed 8-23-01; 8:45 am]

BILLING CODE 4310-VC-P